DEPARTMENT OF COMMERCE

National Oceanic and Atmospheric Administration

[RTID 0648-XE268]

Endangered Species; File No. 28262

AGENCY: National Marine Fisheries Service (NMFS), National Oceanic and Atmospheric Administration (NOAA), Commerce.

ACTION: Notice; receipt of application.

SUMMARY: Notice is hereby given that Kori Johnsen, 1792 Harrison Avenue, Melbourne, FL 32935, has applied in due form for a permit to take green (Chelonia mydas), hawksbill (Eretmochelys imbricata), and Kemp's ridley (Lepidochelys kempii) sea turtles for purposes of scientific research.

DATES: Written comments must be received on or before October 9, 2024.

ADDRESSES: The application and related documents are available for review by selecting “Records Open for Public Comment” from the “Features” box on the Applications and Permits for Protected Species home page, https://apps.nmfs.noaa.gov, and then selecting File No. 28262 from the list of available applications. These documents are also available upon written request via email to NMFS.Pr1Comments@noaa.gov.

Written comments on this application should be submitted via email to NMFS.Pr1Comments@noaa.gov. Please include File No. 28262 in the subject line of the email comment.

Those individuals requesting a public hearing should submit a written request via email to NMFS.Pr1Comments@noaa.gov. The request should set forth the specific reasons why a hearing on this application would be appropriate.

FOR FURTHER INFORMATION CONTACT: Erin Markin, Ph.D., or Malcolm Mohead, (301) 427-8401.

SUPPLEMENTARY INFORMATION: The subject permit is requested under the authority of the Endangered Species Act of 1973, as amended (16 U.S.C. 1531 et seq.) and the regulations governing the taking, importing, and exporting of endangered and threatened species (50 CFR parts 222-226).

The applicant proposes research on juvenile, subadult, and adult sea turtle populations in southeast Florida, including Indian River, St. Lucie, Martin, Palm Beach, Broward, Miami-Dade, and Monroe counties. Researchers would investigate population abundance, distribution, health, habitat use, and behavioral ecology of sea turtles. Up to 50 green, 50 hawksbill, and 30 Kemp ridley sea turtles may be located by unmanned aircraft systems (UAS) or vessels and captured by hand or dip net, marked (flipper and passive integrated transponder tag), measured, weighed, and photographed/videoed, annually. A subset of 10 turtles of each species may receive a video tag attached via a suction cup. Additionally, green sea turtles may be biologically sampled (blood, skin biopsy). Annually, up to 750 green, 250 hawksbill, and 250 Kemp's ridley may be harassed by vessel and UAS surveys. The permit would be valid for 5 years.

Dated: September 4, 2024.
Julia M. Harrison,
Chief, Permits and Conservation Division, Office of Protected Resources, National Marine Fisheries Service.

[FR Doc. 2024-20229 Filed 9-6-24; 8:45 am]

BILLING CODE 3510-22-P